FEDERAL RETIREMENT THRIFT INVESTMENT

Board Member Meeting

May 27, 2020—10:00 a.m., Telephonic

Open Session

1. Approval of the Minutes of the April 27, 2020 Board Meeting

2. Monthly Reports

(a) Participant Activity Report

(b) Investment Performance

(c) Legislative Report

3. Quarterly Reports

(d) Metrics

4. Internal Audit Report

Executive Session

Information covered under 5 U.S.C. 552b(c)(7).

CONTACT PERSON FOR MORE INFORMATION: Kimberly Weaver, Director, Office of External Affairs, (202) 942-1640.

SUPPLEMENTARY INFORMATION: Dial-in (listen only) information: Number: 1-877-446-3914, Code: 5962888.

Kimberly Weaver, Director, Office of External Affairs, (202) 942-1640.

Dated: May 18, 2020.
Megan Grumbine,
General Counsel, Federal Retirement Thrift Investment Board.

[FR Doc. 2020-11003 Filed 5-20-20; 8:45 am]

BILLING CODE 6760-01-P